NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by May 24, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application No. 2011-001

1. Applicant: Stevem D. Emslie, Department of Biology and Marine Biology, University of North Carolina, Wilmington, NC 28403.

Activity for Which Permit is Requested: Take and Import into the U.S.A. The applicant plans to salvage sediments from abandoned and active penguin colonies by excavation of small pits, no larger than 1x1 meter, in each area. In addition, the applicant will collect 10 each organic remains (bones, tissue, feathers, eggshell fragments, otoliths, squid beaks, and other prey remains) from sediments in abandoned colonies of Adelie, Chinstrap, Gentoo, Emperor, and Macaroni penguins, Southern Giant Petrel, Antarctic Petrel, Cape Petrel, Snow Petrel, Blue Petrel, Antarctic Fulmar, White-chinned petrel, Sooty shearwater, Wilson's Storm-petrel, Black-bellied storm-petrel, Blue-eyed shag, Greater sheathbill, South Polar Skua, Brown Skua, Kelp gull, and Antarctic Tern.

The applicant also plans to capture 100 each of adult or juvenile Adelie, Chinstrap and Gentoo penguins to collect some breast feathers and blood samples for analysis of carbon and nitrogen isotope values to examine diets, and for mercury (Hg). All capture bird will be released.

Location:

ASPA 102-Rookery Islands, Holme Bay, ASPA 103-Ardery and Odbert Islands, ASPA 104-Sabrina Island, Balleny Island, ASPA 105-Beaufort Island, ASPA 106-Cape Hallett, Victoria Land, ASPA 107-Dion Islands, ASPA 108-Green Island, Berthelot Islands, ASPA 109-Moa Island, South Orkneys, ASPA 110-Lynch Island, South Orkneys, ASPA 111-Southern Powell Island and adjacent islands, South Orkneys, ASPA 112-Coppermine Peninsula, Robert Island, ASPA 113-Litchfield Island, Arthur Harbor, Palmer Archipelago, ASPA 114-North Coronation Island, ASPA 115-Lagotellerie Island, Marguerite Bay, ASPA 116-New College Valley, Caughley Beach, Cape Bird ASPA 117-Avian Island, northwest Marguerite Bay, ASPA 121-Cape Royds, Ross Island, ASPA 124-Cape Crozier, Ross Island, ASPA 125-Fildes Peninsula, King George Island, South Shetland Islands, ASPA 126-Byers Peninsula, Livingston Island, ASPA 127-Haswell Island, ASPA 128-Western shore of Admiralty Bay, King George Island, ASPA 129-Rothera Point, Adelaide Island, ASPA 132-Potter Peninsula, King George Island, ASPA 133-Harmony Point, Nelson Island, ASPA 134-Cierva Point, Danco Coast, ASPA 135-Bailey Peninsula, Budd Coast, ASPA 136-Clark Peninsula, Budd Coast, ASPA 139-Biscoe Point, Anvers Island, Palmer Archipelago, ASPA 143-Marine Plain, Mule Peninsula, Vestfold Hills, ASPA 149-Cape Shirreff, Livingston Island and ASPA 150-Ardley Island, King George Island.

Dates: October 1, 2010 to September 30, 2012.
Nadene G. Kennedy,
Permit Officer, Office of Polar Programs.

[FR Doc. 2010-9319 Filed 4-21-10; 8:45 am]

BILLING CODE 7555-01-P